DEPARTMENT OF DEFENSE

Office of the Secretary

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on December 23, 2005 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on October 5, 2005, to the House Committee on Government Reform, the Senate Committee on Homeland Security and Governmental Affairs, and the Office of Management and Budget (OMB) pursuant to paragraph 4c of Appendix I to OMB Circular No. A-130, Federal Agency Responsibilities for Maintaining Records About Individuals, dated February 8, 1996 (February 20, 1996, 61 FR 6427).

Dated: November 16, 2005.
L.M. Bynum,
OSD Federal Register Liaison Officer, Department of Defense.

DSCA 01

System name:

International Affairs Personnel Initiatives Database.

System location:

Defense Institute of Security Assistance Management, Research Directorate, 2475 K Street, Wright-Patterson AFB, OH 45433-7641.

Categories of individuals covered by the system:

Civilians and foreign service nationals employed by the Department of Defense (DoD), who wish to become certified by the DoD International Affairs Certification Program, a voluntary program sponsored by the Defense Security Cooperation Agency, Army, Navy, and Air Force.

Categories of records in the system:

Full name; Social Security Number (SSN); e-mail address; organization; job series/title; certification criteria data, such as, education and experience (Federal service start date and start date in international affairs); and submission verification data such as supervisory contact information.

Authority for maintenance of the system:

5 U.S.C 301, Departmental Regulation; 10 U.S.C. Chapter 2, Secretary of Defense; E.O. 9397 (SSN).

Purpose(s):

To establish an International Affairs Personnel Initiatives Database (IAPID), a single central facility within the Department of Defense (DoD), to maintain and verify information provided by individuals voluntarily seeking International Affairs certification based on their experience and training. The Certification Database is designed to standardized certification and career development guidelines, which provide DoD the opportunity to enhance and develop personnel with the knowledge, skills, and abilities required to support International Affairs in the 21st century, from entry-level personnel through senior leadership.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices of storing, retrieving, accessing, retaining, and disposing of records in the system.

Storage:

Records are maintained on electronic storage media.

Retrievability:

Records are retrieved by individual's name Organization, and level of certification.

Safeguards:

Records are maintained in controlled areas accessible only to authorized personnel. Access to personal information is further restricted by the use of passwords that are changed periodically. Physical entry is restricted by the use of locks, guards, and administrative procedures.

Retention and disposal:

Records are maintained for as long as the individual is an active participant. Records will be destroyed five years after the individual last actively participated.

System Managers and addresses:

U.S. Army Personnel: DASA DE&C, 1777 North Kent Street, Rosslyn, VA 22209-2185; U.S. Navy/U.S. Marine Corps Personnel: Navy International Programs Office, 3801 Nebraska Ave., NW., Washington, DC, 20393-5445; U.S. Air Force Personnel: SAF/IAPX, 1550 Wilson Blvd., Suite 900, Arlington, VA 22209-1080; Other Defense Personnel: Defense Institute of Security Assistance Management, Project Manager, Building 52, 2475 K Street, Wright-Patterson AFB, OH 45433-7641.

Notification procedure:

Individuals seeking to determine whether information about themselves is contained in this system should address written inquiries to the appropriate system manager.

Requests should contain the full name, Social Security Number (SSN), organization, and job series/title.

Record access procedures:

Individuals seeking access to records about themselves contained in this system should address written inquiries to the appropriate System managers.

Requests should contain the full name, Social Security Number (SSN), organization, and job series/title.

Contesting record procedures:

The OSD rules for accessing records, for contesting contents and appealing initial agency determinations are published in OSD Administrative Instruction 81; 32 CFR part 311; or may be obtained from the system manager.

Record source categories:

Information is obtained from the individual and immediate supervisors.

Exemptions claimed for the system:

None.

[FR Doc. 05-23129 Filed 11-22-05; 8:45 am]

BILLING CODE 5001-06-M